POSTAL SERVICE

Next Generation Delivery Vehicles Acquisitions

AGENCY: Postal Service.

ACTION: Notice of availability of record of decision.

SUMMARY: To replace existing delivery vehicles nationwide that have reached the end of their service life, the U.S. Postal Service (“Postal Service”) has determined that it will implement the Preferred Alternative. The Preferred Alternative is the purchase and deployment over a ten-year period of 50,000 to 165,000 purpose-built, right-hand drive NGDV vehicles consisting of a mix of internal combustion engine (“ICE”) and battery electric vehicle (“BEV”) powertrains, with at least ten percent BEVs.

DATES: The Record of Decision (“ROD”) became effective when it was signed by the Postal Service's Vice President of Supply Management on February 23, 2022.

ADDRESSES: Interested parties may view the ROD and FEIS at https://uspsngdveis.com/.

SUPPLEMENTARY INFORMATION: To replace existing delivery vehicles nationwide that have reached the end of their service life, the U.S. Postal Service (“Postal Service”) has determined that it will implement the Preferred Alternative, as described in the Next Generation Delivery Vehicle Acquisitions (“NGDV”) Final Environmental Impact Statement (“FEIS”), which was published by the U.S. Environmental Protection Agency in the Federal Register on January 7, 2022 (87 FR 964).

The Postal Service has decided on the Preferred Action because it fully meets the Postal Service's Purpose and Need by providing a purpose-built right-hand drive vehicle capable of meeting performance, safety, and ergonomic requirements for efficient carrier deliveries to businesses and curb-line residential mailboxes over the entire nationwide system. Moreover, the Postal Service has determined that the Preferred Alternative is the most achievable given the Postal Service's financial condition as the BEV NGDV has a significantly higher total cost of ownership than the ICE NGDV, which is why the Preferred Alternative being implemented does not commit to more than 10 percent BEV NGDV. Finally, the Postal Service notes that the Preferred Alternative as implemented contains the flexibility to significantly increase the percentage of BEV NGDVs should additional funding become available from any source.

The Record of Decision was prepared in accordance with the requirements of the National Environmental Policy Act, the Postal Service's implementing procedures at 39 CFR part 775, and the President's Council on Environmental Quality Regulations (40 CFR parts 1500-1508). The ROD incorporates the analyses and findings from the FEIS.

References

1. U.S. Postal Service, Notice of Intent to Prepare an Environmental Impact Statement for Purchase of Next Generation Delivery Vehicles, 86 FR 12715 (Mar. 4, 2021).

2. U.S. Postal Service, Notice of Availability of Draft Environmental Impact Statement for Purchase of Next Generation Delivery Vehicle, 86 FR 47662 (Aug. 26, 2021).

3. U.S. Environmental Protection Agency, Notice of Availability of EIS No. 20210129, Draft, USPS, DC, Next Generation Delivery Vehicle Acquisitions, 86 FR 49531 (Sept. 3, 2021).

4. U.S. Environmental Protection Agency, Notice of Availability of EIS No. 20220001, Final, USPS, DC, Next Generation Delivery Vehicle Acquisitions, 87 FR 964 (Jan. 7, 2022).

5. U.S. Postal Service, Notice of Availability of Final Environmental Impact Statement for Purchase of Next Generation Delivery Vehicles, 87 FR 994 (Jan. 7, 2022).

Sarah E. Sullivan,
Attorney, Ethics and Legal Compliance.

[FR Doc. 2022-05383 Filed 3-14-22; 8:45 am]

BILLING CODE 7710-12-P